DEPARTMENT OF LABOR

Employment and Training Administration

[TA-W-80,317]

Baldwin Hardware Corporation, a Subsidiary of Spectrum Brands, Formerly Known as a Subsidiary of Stanley Black & Decker Including On-Site Leased Workers From Gage Personnel, Adecco, Mack Employment and John Galt Staffing, Reading, Pennsylvania; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on August 10, 2011, applicable to workers of Baldwin Hardware Corporation, a Subsidiary of Stanley Black & Decker, including on-site leased workers from Gage personnel, Adecco, Mack Employment and John Galt Staffing, Reading, Pennsylvania. The workers are engaged in the production of decorative hardware. The Notice was published in the Federal Register on September 2, 2011 (76 FR 54796).

At the request of a company official, the Department reviewed the certification for workers of the subject firm. New information shows that on December 17, 2012, Spectrum Brands purchased Baldwin Hardware, and that the subject firm is now known as Baldwin Hardware Corporation, a Subsidiary of Spectrum Brands, formerly known as a Subsidiary of Stanley Black & Decker.

Some workers separated from employment at the subject firm had wages reported under a separate unemployment insurance (UI) tax account under “Spectrum Brands.” Accordingly, the Department is amending this certification to include workers of the subject firm whose UI wages are reported under Spectrum Brands.

The intent of the Department's certification is to include all workers of the subject firm who were adversely affected by a shift in the production of decorative hardware to Mexico.

The amended notice applicable to TA-W-80,317 is hereby issued as follows:

All workers of Baldwin Hardware Corporation, a Subsidiary of Spectrum Brands, formerly known as a Subsidiary of Stanley Black & Decker, including on-site leased workers from Gage Personnel, Adecco, Mack Employment, and John Galt Staffing, Reading, Pennsylvania, who became totally or partially separated from employment on or after July 25, 2010, through August 10, 2013, are eligible to apply for adjustment assistance under Section 223 of the Trade Act of 1974, and are also eligible to apply for alternative trade adjustment assistance under Section 246 of the Trade Act of 1974.

Signed at Washington, DC this 12th day of March, 2013.
Del Min Amy Chen,
Certifying Officer, Office of Trade Adjustment Assistance.

[FR Doc. 2013-06887 Filed 3-25-13; 8:45 am]

BILLING CODE 4510-FN-P